SECURITIES AND EXCHANGE COMMISSION

[File No. 500-1]

In the Matter of Wonder International Education and Investment Group Corp.; Order of Suspension of Trading

August 3, 2015.

It appears to the Securities and Exchange Commission (“Commission”) that there is a lack of current and accurate information concerning the securities of Wonder International Education and Investment Group Corp. (CIK No. 0001456137) (“WIEI”) because WIEI has not filed any periodic reports since it filed a Form 10-Q for the quarter ended September 30, 2013 on November 14, 2013. The company has not filed audited financials since July 25, 2013, when it filed its amended Form 10-K for the year ended December 31, 2012. In particular, it appears to the Commission that there is a lack of accurate and reliable information concerning WIEI's financial condition and the current status of its business. WIEI is an Arizona corporation originally based in Scottsdale, Arizona. Its stock is quoted on OTC Link, operated by OTC Markets Group Inc., under the ticker: WIEI. The Commission is of the opinion that the public interest and the protection of investors require a suspension of trading in the securities of the above-listed company.

Therefore, it is ordered, pursuant to Section 12(k) of the Securities Exchange Act of 1934, that trading in the securities of the above-listed company is suspended for the period from 9:30 a.m. EDT on August 3, 2015, through 11:59 p.m. EDT on August 14, 2015.

By the Commission.
Brent J. Fields,
Secretary.

[FR Doc. 2015-19311 Filed 8-3-15; 11:15 am]

BILLING CODE 8011-01-P